DEPARTMENT OF HEALTH AND HUMAN SERVICES

Centers for Disease Control and Prevention

[30Day-08-05CL]

Agency Forms Undergoing Paperwork Reduction Act Review

The Centers for Disease Control and Prevention (CDC) publishes a list of information collection requests under review by the Management and Budget (OMB) in compliance with the Paperwork Reduction Act (44 U.S.C. Chapter 35). To request a copy of these requests, call the CDC Acting Reports Clearance Officer at 404-639-5960 or send an e-mail to omb@cdc.gov. Send written comments to CDC Desk Officer, Office of Management and Budget, Washington, DC or by fax to (202) 395-6974. Written comments should be received within 30 days of this notice.

Proposed Project

Formative Evaluation of Adults' and Children's Views Related to Promotion of Healthy Food Choices—New—National Center for Chronic Disease Prevention and Health Promotion (NCCDPHP), Centers for Disease Control and Prevention (CDC).

Background and Brief Description

In FY 2004, Congress directed the Centers for Disease Control and Prevention (CDC) to conduct formative research on the attitudes of children and parents regarding nutrition behavior and the characteristics of effective marketing of foods to children to promote healthy food choices. In response, CDC will work with a contractor to conduct focus groups to explore barriers and motivations to the adoption and maintenance of healthy food choices among children at different developmental stages. Current literature and opinion-leaders both strongly suggest that “tweens” (ages 9-12) greatly influence their parents’ and younger siblings' nutritional decisions. The focus groups will also explore the topic of family interactions around decision-making about food choices. The information gathered will be used to develop, refine, and modify messages and strategies to increase healthy food choices by children and parents.

A total of 90 focus groups will be conducted in three phases: Phase 1 will address tweens and parents of tweens; Phase 2 will focus on children 5-8 years old and their parents; and Phase 3 focus groups will be conducted with parents of children ages 1-4 years old. Thirty-six focus groups will be conducted in Phase 1; 36 focus groups will be conducted in Phase 2; and 18 focus groups will be conducted in Phase 3.

All focus groups will incorporate appropriate representation of diverse ethnic groups, and the groups will be held in several cities to ensure broad geographic representation. Participants will be recruited by focus group facilities utilizing their database to solicit and screen interested parties. Each focus group discussion will be limited to no more than two hours.

There is no cost to respondents other than their time. The total estimated annualized burden hours are 1,556.

Estimated Annualized Burden Hours
Type of respondents | Form name | No. of respondents | No. of responses per respondent | Average burden (in hours)
Children | Screener D1 for Parent & Child Groups | 384 | 1 | 3/60
| Screener D2 for Child Only Groups | 384 | 1 | 3/60
| Focus Group Moderator's Guide for Children/Youth | 384 | 1 | 2
Parents | Screener D1 for Parent & Child Groups | 192 | 1 | 7/60
| Screener D2 for Child Only Groups | 192 | 1 | 7/60
| Screener D3 for Parent Only Groups | 288 | 1 | 7/60
| Focus Group Moderator's Guide for Parents | 336 | 1 | 2

Dated: April 1, 2008.
Maryam I. Daneshvar,
Acting Reports Clearance Officer, Centers for Disease Control and Prevention.

[FR Doc. E8-7571 Filed 4-9-08; 8:45 am]

BILLING CODE 4163-18-P